DEPARTMENT OF HEALTH AND HUMAN SERVICES

Agency for Toxic Substances and Disease Registry

[ATSDR-166]

Availability of Draft Chemical Technical Summary on Malathion

AGENCY: Agency for Toxic Substances and Disease Registry (ATSDR), Department of Health and Human Services (HHS).

ACTION: Notice of availability.

SUMMARY: The Comprehensive Environmental Response, Compensation, and Liability Act of 1980 (CERCLA), as amended by the Superfund Amendments and Reauthorization Act of 1986 (SARA), Section 104 (i)(4) [42 U.S.C. 9604(i)(4)], directs the Administrator of ATSDR to provide informational materials on request on health issues relating to exposure to hazardous or toxic substances to the Administrator of the EPA, State officials, and local officials. A chemical technical summary provides information on a specific public health issue related to real or possible exposure and is a method ATSDR uses to respond rapidly to requests for assistance and public health needs. The chemical technical summary will aid public health and public safety professionals in evaluating symptoms and conducting surveillance of human exposure to toxic material.

This notice announces that a chemical technical summary on malathion is now available for public comment. This ATSDR chemical technical summary reviews the scientific literature describing the relationship between exposure to malathion and possible resultant health effects.

DATES: In order to be considered, comments on this draft chemical technical summary must be received within forty-five (45) days from the date of this publication. Comments received after the close of the public comment period will be considered at the discretion of ATSDR based upon what is deemed to be in the best interest of the general public.

ADDRESSES: Requests for copies of the draft chemical technical summary should be sent to: Ms. Franchetta Stephens, Division of Toxicology, Agency for Toxic Substances and Disease Registry, Mailstop E-29, 1600 Clifton Road, NE, Atlanta, Georgia 30333, telephone 1-(888) 422-8737 or (404) 639-6345. Written comments regarding the draft chemical technical summary should be sent to the same address. ATSDR reserves the right to provide only one copy of the draft chemical technical summary free of charge. The document may also be accessed at the ATSDR Home page News section at www.atsdr.cdc.gov.

Written comments submitted in response to this notice should bear the docket control number ATSDR-166. Because all public comments regarding ATSDR-166 chemical technical summary will be available for inspection, no confidential business information or personal medical information should be submitted in response to this notice.

FOR FURTHER INFORMATION CONTACT: Division of Toxicology, Agency for Toxic Substances and Disease Registry, Mailstop E-29, 1600 Clifton Road, NE., Atlanta, Georgia 30333.

SUPPLEMENTARY INFORMATION: Malathion is an organophosphate insecticide commonly used to control mosquitos and other flying insects, especially during outbreaks of vector-borne diseases, to protect public health. Malathion is toxic to aquatic organisms, but has a relatively low toxicity for birds and mammals. The principal toxicological effect of malathion is cholinesterase inhibition, due primarily to malaoxon and to phosphorus thionate impurities. Levels of malathion used for wide-area treatment to protect the public from mosquito-carrying diseases are not likely to result in harmful effects in individuals who are not directly exposed during spraying.

Dated: March 16, 2001.
Georgi Jones,
Director, Office of Policy and External Affairs, Agency for Toxic Substances and Disease Registry.

[FR Doc. 01-7236 Filed 3-22-01; 8:45 am]

BILLING CODE 4163-70-P